DEPARTMENT OF LABOR

Employment and Training Administration

[NAFTA—05280]

PPG Industries Fiberglass Products Shelby, NC; Notice of Termination of Investigation

Pursuant to Title V of the North American Free Trade Agreement Implementation Act (P.L. 103-182) concerning transitional adjustment assistance, hereinafter called (NAFTA-TAA), and in accordance with Section 250(a), Subchapter D, Chapter 2, Title II, of the Trade Act of 1974, as amended (19 U.S.C. 2273), an investigation was initiated on September 7, 2001 in response to a petition filed on behalf of workers at PPG Industries Fiberglass Products, Shelby, North Carolina.

The petitioners requested that the petition for NAFTA-TAA be withdrawn. Consequently, further investigation in this case would serve no purpose, and the investigation has been terminated.

Signed at Washington, DC, this 22nd day of October, 2001.
Linda G. Poole,
Certifying Officer, Division of Trade Adjustment Assistance.

[FR Doc. 01-27801 Filed 11-5-01; 8:45 am]

BILLING CODE 4510-30-M